ELECTION ASSISTANCE COMMISSION

Sunshine Act Meetings

AGENCY: U.S. Election Assistance Commission.

ACTION: Sunshine Act notice; notice of public meeting agenda.

SUMMARY: Public Meeting: U.S. Election Assistance Commission.

DATES: Wednesday, February 19, 1 p.m.-4 p.m. ET.

ADDRESSES: The meeting will be held in person at the Election Assistance Commission hearing room at 633 3rd St. NW, Washington, DC 20001. The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting on updates from the EAC's Election Supporting Technology Evaluation Program (ESTEP) and recent pilot efforts from the Field Services Program.

Agenda: During the meeting, the EAC's Commissioners will lead discussions with agency staff on updates. Other panelists will include election officials and election technology vendors.

The full agenda will be posted in advance on the EAC website: https://www.eac.gov.

The EAC will accept written comments and questions from members of the public. If you would like to participate, please email clearinghouse@eac.gov with your full name and question or comment no later than 9 a.m. ET on February 19, 2025.

Background: Under the authority of the Help America Vote Act of 2002 (HAVA), the EAC created the Election Supporting Technology Evaluation Program (ESTEP) to establish requirements and guidelines specific to election technologies that are not covered under the Voluntary Voting System Guidelines (VVSG), which includes electronic poll books, electronic ballot delivery systems, election night reporting systems, and voter registration systems.

As outlined in HAVA, the Field Services Program is derived from the EAC Testing and Certification division's Quality Monitoring Program, where the agency is positioned to assist states and local jurisdictions in the verification of EAC certified fielded systems on an ongoing basis. To best accomplish this, the program has a deployable, full-time staff of subject matter experts to proactively provide a combination of virtual and onsite services and training to help officials.

Status: This meeting will be open to the public.

Camden Kelliher,
General Counsel, U.S. Election Assistance Commission.

[FR Doc. 2025-02202 Filed 1-30-25; 4:15 pm]

BILLING CODE 4810-71-P